DEPARTMENT OF COMMERCE

National Oceanic and Atmospheric Administration

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene public meetings.

DATES: The meetings will be held June 18-21, 2012.

ADDRESSES: The meetings will be held at the Hilton Westshore Airport Hotel, 2225 N. Lois Avenue; Tampa, FL; telephone: (813) 877-6688.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Committees

Monday, June 18, 2012

1 p.m.-1:30 p.m.—Administrative Policy Committee will receive a staff presentation of the visit from the Inspector General's office.

1:30 p.m.-3 p.m.—Ad Hoc Restoration Committee will review State summaries and receive presentations.

3 p.m.-4:30 p.m.—Data Collection Committee will review the Ad Hoc Private Recreational Data Collection Advisory Panel Report and discuss the Public Hearing draft for a Generic Amendment for Dealer Permits/Electronic Logbook Reporting Requirements.

4:30 p.m.-5:30 p.m.—Sustainable Fisheries/Ecosystem Committee will discuss the Council's Risk Policy.

5:30 p.m.-6:30 p.m.—Shrimp Management Committee will review a report from the Shrimp Workshop and the Shrimp Scientific & Statistical Committee meetings; discuss the funding for the Electronic Logbooks Program (ELB); receive a report on the Kemps Ridley Assessment Workshop; review the Status of the National Marine Fisheries Service's Biological Opinion and Proposed Turtle Excluder Device (TEDs) Requirement; and discuss Exempted Fishing Permits related to Shrimp (if any).

—Recess—

Tuesday, June 19, 2012

8:30 a.m.-12:15 p.m. and 1:30 p.m.-5:45 p.m.—Reef Fish Management Committee will receive a presentation by Louisiana DWF on Regional Management; review Options Papers for Amendment 28—Grouper Allocation, Amendment 37—Gray Triggerfish Rebuilding Plan; and review a Framework Action for the 2013 Gag Season, a potential Split Season and possibly eliminating the February—March Shallow-Water Grouper Closure. The Committee will also review a Public Hearing draft of Amendment 38—Revise Post-Season Recreational Accountability Measures for Shallow-Water Grouper; a Revision to the Generic Framework Procedure; and a Scoping Document for Amendment 39—Sector Separation. Finally, the Committee will review possible abbreviated Framework Actions regarding Venting Tool Requirements and Definition and Intent of For-hire Fishing in the EEZ; have a discussion on the National Standard 1; and discuss Exempted Fishing Permits related to Reef Fish (if any).

—Recess—

Immediately following the Committee Recess will be the Informal Question & Answer Session on Gulf of Mexico Fishery Management Issues.

Wednesday, June 20, 2012

8:30 a.m.-9:30 a.m.—The Joint Artificial Reef/Habitat Committees will discuss Artificial Reefs and Petroleum Platforms being designated as Essential Fish Habitat.

9:30 a.m.-12 noon—The Mackerel Management Committee will review drafts for the Coastal Migratory Pelagics Amendment 19—Bag Limit Sales, Trip Limits and Latent Gill Net Permits and for Amendment 20—Boundaries and Transit Provisions and discuss Exempted Fishing Permits to Coastal Migratory Pelagics (if any).

—Recess—

Council

Wednesday, June 20, 2012

1:30 p.m.—The Council meeting will begin with a Call to Order and Introductions.

1:45 p.m.-1:55 p.m.—The Council will review the agenda and approve the minutes.

1:55 p.m.-2 p.m.—The Council will review the Action Schedule.

2 p.m.-2:15 p.m.—The Council will review Exempted Fishing Permits (EFP), if any.

2:15 p.m.-5:30 p.m.—The Council will receive public testimony on Exempted Fishing Permits (EFPs), if any; and will also hold an open public comment period regarding any other fishery issues or concern. People wishing to speak before the Council should complete a public comment card prior to the comment period.

Thursday, June 21, 2012

8:30 a.m.-8:45 a.m.—The Council will have a discussion on Exempted Fishing Permits (if any).

8:45 a.m.-3:15 p.m.—The Council will review and discuss reports from the committee meetings as follows: Administrative Policy, Reef Fish, Ad Hoc Restoration, Data Collection, Shrimp, Joint Artificial Reef/Habitat, Mackerel, and Sustainable Fisheries/Ecosystem.

3:15 p.m.-3:45 p.m.—Other Business items will follow.

The Council will conclude its meeting at approximately 3:45 p.m.

Although other non-emergency issues not on the agendas may come before the Council and Committees for discussion, in accordance with the Magnuson Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Kathy Pereira at the Council (see ADDRESSES) at least 5 working days prior to the meeting.

Dated: May 25, 2012.
Tracey L. Thompson,
Acting Director, Office of Sustainable Fisheries, National Marine Fisheries Service.

[FR Doc. 2012-13211 Filed 5-30-12; 8:45 am]

BILLING CODE 3510-22-P